COUNCIL ON ENVIRONMENTAL QUALITY

The National Environmental Policy Act—Guidance on Categorical Exclusions

AGENCY: Council on Environmental Quality.

ACTION: Notice extending comment period.

SUMMARY: By Federal Register notice of September 19, 2006 (71 FR 54816-54820), the Council on Environmental Quality (CEQ) notified interested parties it was proposing guidance to Federal agencies for establishing and for using categorical exclusions in meeting their responsibilities under the National Environmental Policy Act (NEPA). CEQ invited comments on the proposed guidance, “Establishing, Revising, and Using Categorical Exclusions under the National Environmental Policy Act.” Interested parties have requested that CEQ extend the public comment. The deadline for comments was October 27, 2006. By this notice, CEQ is extending the public comment period to December 1, 2006. Although the time for comments has been extended, CEQ requests that interested parties provide comments as soon as possible.

DATES: Written comments should be submitted on or before December 1, 2006.

ADDRESSES: Electronic or facsimile comments on the proposed guidance are preferred because federal offices experience intermittent mail delays from security screening. Electronic comments can be sent to NEPA Modernization (CE) at hgreczmiel@ceq.eop.gov. Written comments may be faxed to NEPA Modernization (CE) at (202) 456-0753. Written comments may also be submitted to NEPA Modernization (CE), Attn: Associate Director for NEPA Oversight, 722 Jackson Place NW., Washington DC 20503.

FOR FURTHER INFORMATION CONTACT: Horst Greczmiel, 202-395-5750.

SUPPLEMENTARY INFORMATION: On September 19, 2006, CEQ published notice in the Federal Register requesting public comment on proposed guidance to Federal agencies for establishing and for using categorical exclusions in meeting their responsibilities under the National Environmental Policy Act (NEPA).

The Council on Environmental Quality (CEQ) established a National Environmental Policy Act (NEPA) Task Force and is now implementing recommendations designed to modernize the implementation of NEPA and make the NEPA process more effective and efficient. Additional information is available on the task force Web site at http://ceq.eh.doe.gov/ntf.

The proposed guidance, “Establishing, Revising, and Using Categorical Exclusions under the National Environmental Policy Act,” was developed to assist agencies with developing and using categorical exclusions for actions that do not have significant effects on the human environment and eliminate the need for unnecessary paperwork and effort under NEPA for categories of actions that normally do not warrant preparation of an environmental impact statement (EIS) or environmental assessment (EA). Developing and using appropriate categorical exclusions promotes the cost-effective use of agency NEPA related resources.

Interested parties have requested that CEQ extend the public comment period. The Council believes that by extending the comment period we will receive more in-depth comments on the proposed guidance published in the Federal Register notice of September 19, 2006 (67 FR 45510-45512) and also available at http://www.NEPA.gov in the Current Developments section. Therefore, the comment period is being extended.

Public comments are requested by December 1, 2006.

Dated: October 13, 2006.
James L. Connaughton,
Chairman, Council on Environmental Quality.

[FR Doc. E6-17359 Filed 10-17-06; 8:45 am]

BILLING CODE 3125-W7-P